COMMODITY FUTURES TRADING COMMISSION

17 CFR Parts 1 and 38

Execution of Transactions: Regulation 1.38 and Guidance on Core Principle 9

AGENCY: Commodity Futures Trading Commission.

ACTION: Extension of comment period.

SUMMARY: On September 18, 2008, the Commission published in the Federal Register a notice of proposed rulemaking to amend its rules, guidance and acceptable practices concerning trading off the centralized market, including the addition of guidance on contract market block trading rules and exchanges of futures for commodities or derivatives positions. Comments on the proposal originally were due on November 17, 2008. The Commission is extending the comment period in order to give interested persons additional time to comment on the proposed amendments.

DATES: Comments must be received by January 5, 2009.

ADDRESSES: Comments may be submitted by any of the following methods:

• Federal eRulemaking Portal: http://www.regulations.gov.

• Mail/Hand Delivery: David Stawick, Secretary of the Commission, Commodity Futures Trading Commission, Three Lafayette Centre, 1155 21st Street, NW., Washington, DC 20581.

• E-mail: secretary@cftc.gov.

FOR FURTHER INFORMATION CONTACT: Gabrielle A. Sudik, Special Counsel, Division of Market Oversight; Telephone 202-418-5171; e-mail: gsudik@cftc.gov; Commodity Futures Trading Commission, Three Lafayette Center, 1155 21st Street, NW., Washington, DC 20581.

SUPPLEMENTARY INFORMATION: On September 18, 2008, the Commission published in the Federal Register a notice of proposed rulemaking to amend its rules, guidance and acceptable practices concerning trading off the centralized market, including the addition of guidance on contract market block trading rules and exchanges of futures for commodities or derivatives positions.

The comment period closes on November 17, 2008. By letter dated November 4, 2008, CME Group, Inc., requested an extension of the comment period until January 5, 2009. In order to encourage the submission of meaningful comments and to assure that all views are considered in its final determination, the Commission has determined to grant the request and to give full consideration to any comment received during the extension period. While the Commission has received some comment letters on the proposal, none yet have been from any designated contract markets, which have the responsibility of complying with Regulation 1.38 and Core Principle 9. Accordingly, the comment period for the Commission's proposed amendments to Regulation 1.38 and Part 38 is hereby extended to January 5, 2008.

Issued in Washington, DC, on November 10, 2008, by the Commission.
Sauntia S. Warfield,
Staff Assistant.

[FR Doc. E8-27121 Filed 11-13-08; 8:45 am]

BILLING CODE 6351-01-P